FEDERAL ELECTION COMMISSION

[NOTICE 2020-07]

Filing Dates for the Georgia Special Election in the 5th Congressional District Special Election

AGENCY: Federal Election Commission.

ACTION: Notice of filing dates for special election.

SUMMARY: Georgia has scheduled a Special General Election on September 29, 2020, to fill the U.S. House of Representatives seat of the late Representative John Lewis. Under Georgia law, a majority winner in a Special General Election is declared elected. Should no candidate achieve a majority vote, a Special Runoff Election will be held on December 1, 2020, between the top two vote-getters. Political committees participating in the Georgia special elections are required to file pre- and post-election reports. Filing deadlines for these reports are affected by whether one or two elections are held.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in both the Georgia Special General and Special Runoff Elections shall file a 12-day Pre-General Report on September 17, 2020; a 12-day Pre-Runoff Report on November 19, 2020; and a 30-day Post-Runoff Report on December 31, 2020. (See charts below for the closing date for each report.)

If both elections are held, all principal campaign committees of candidates who participate only in the Special General Election shall file a 12-day Pre-General Report on September 17, 2020. (See charts below for the closing date for each report.)

If only one election is held, all principal campaign committees of candidates in the Special General Election shall file a 12-day Pre-General Report on September 17, 2020; and a 30-day Post-General Report on October 29, 2020. (See charts below for the closing date for each report.)

Note that these reports are in addition to the campaign committee's regular quarterly filings. (See charts below for the closing date for each report).

Unauthorized Committees (PACs and Party Committees)

Political committees not filing monthly are subject to special election reporting if they make previously undisclosed contributions or expenditures in connection with the Georgia Special General or Special Runoff Elections by the close of books for the applicable report(s). (See charts below for the closing date for each report.)

Committees filing monthly that make contributions or expenditures in connection with the Georgia Special General or Special Runoff Elections will continue to file according to the monthly reporting schedule.

Additional disclosure information in connection with the Georgia special elections may be found on the FEC website at https://www.fec.gov/help-candidates-and-committees/dates-and-deadlines/.

Disclosure of Lobbyist Bundling Activity

Principal campaign committees, party committees and leadership PACs that are otherwise required to file reports in connection with the special election must simultaneously file FEC Form 3L if they receive two or more bundled contributions from lobbyists/registrants or lobbyist/registrant PACs that aggregate in excess of $19,000 during the special election reporting period. (See charts below for closing date of each period.) 11 CFR 104.22(a)(5)(v), (b), 110.17(e)(2), (f).

Calendar of Reporting Dates for Georgia Special Election(s)
Report | Close of books ¹ | Reg./cert. & overnight mailing deadline | Filing deadline
If only the special general is held (09/29/2020), committees involved must file:
Special Pre-General | 09/09/2020 | 09/14/2020 | 09/17/2020
October Quarterly | 09/30/2020 | 10/15/2020 | 10/15/2020
Special Post-General | 10/19/2020 | 10/29/2020 | 10/29/2020
Year-End | 12/31/2020 | 01/31/2021 | ² 01/31/2021
If two elections are held, committees involved only in the special general (09/29/2020) must file:
Special Pre-General | 09/09/2020 | 09/14/2020 | 09/17/2020
October Quarterly | 09/30/2020 | 10/15/2020 | 10/15/2020
If two elections are held, committees involved only in the special runoff (12/01/2020) must file:
Special Pre-Runoff | 11/11/2020 | 11/16/2020 | 11/19/2020
Special Post-Runoff | 12/21/2020 | 12/31/2020 | 12/31/2020
Year-End | 12/31/2020 | 01/31/2021 | ² 01/31/2021
Committees inovlved in both the special general (09/29/2020) and special runoff (12/01/2020) must file:
Special Pre-General | 09/09/2020 | 09/14/2020 | 09/17/2020
October Quarterly | 09/30/2020 | 10/15/2020 | 10/15/2020
Special Pre-Runoff | 11/11/2020 | 11/16/2020 | 11/19/2020
Special Post-Runoff | 12/21/2020 | 12/31/2020 | 12/31/2020
Year-End | 12/31/2020 | 01/31/2021 | ² 01/31/2021

Notes for Committees Involved in Both the Special Election(s) and Regularly-Scheduled Election(s)

In addition to the special election reports listed in the tables above, committees involved in the regularly-scheduled election(s) may have additional filing obligations. (See https://www.fec.gov/help-candidates-and-committees/dates-and-deadlines/2020-reporting-dates/pre-and-post-general-reports-2020/.) Given the proximity of special and regularly-scheduled elections, some reporting periods overlap. As a result, the Commission has waived the Pre-General Report (due October 22) for any committee required to file a Special Post-General Report (due October 29). This is the only report the Commission has waived as a result of the overlap. Committees must file all other required special and regularly-scheduled reports. Remember, a reporting period always begins the day after the close of books for the last report filed. Filers with questions are encouraged to call the Commission at 1-800-424-9530.

¹ The reporting period always begins the day after the closing date of the last report filed. If the committee is new and has not previously filed a report, the first report must cover all activity that occurred before the committee registered as a political committee up through the close of books for the first report due.

² Notice that this filing deadline falls on a weekend or federal holiday. Filing deadlines are not extended when they fall on nonworking days. Accordingly, reports filed by methods other than registered, certified or overnight mail must be received by close of business on the last business day before the deadline.

Dated: August 3, 2020.
On behalf of the Commission,
Ellen L. Weintraub,
Commissioner, Federal Election Commission.

[FR Doc. 2020-17272 Filed 8-6-20; 8:45 am]

BILLING CODE 6715-01-P